DEPARTMENT OF TRANSPORTATION

Federal Aviation Administration

14 CFR Part 39

[Docket No. FAA-2007-27010; Directorate Identifier 2006-NM-259-AD; Amendment 39-15214; AD 2007-20-04]

RIN 2120-AA64

Airworthiness Directives; Airbus Model A300 Airplanes and Model A310 Airplanes

AGENCY: Federal Aviation Administration (FAA), Department of Transportation (DOT).

ACTION: Final rule.

SUMMARY: The FAA is superseding an existing airworthiness directive (AD) that applies to all Airbus Model A300 and A310 airplanes, and certain Model A300-600 series airplanes. That AD currently requires an inspection of the wing and center fuel tanks to determine if certain P-clips are installed and corrective action if necessary. That AD also requires an inspection of electrical bonding points of certain equipment in the center fuel tank for the presence of a blue coat and related investigative and corrective actions if necessary. That AD also requires installation of new bonding leads and electrical bonding points on certain equipment in the wing, center, and trim fuel tanks, as necessary. This new AD requires, for certain airplanes, installation of bonding on an additional bracket and modification of the fuel/defuel valves on the left-hand wing. This AD results from fuel system reviews conducted by the manufacturer. We are issuing this AD to ensure continuous electrical bonding protection of equipment in the wing, center, and trim fuel tanks and to prevent damage to wiring in the wing and center fuel tanks, due to failed P-clips used for retaining the wiring and pipes, which could result in a possible fuel ignition source in the fuel tanks.

DATES: This AD becomes effective November 7, 2007.

The Director of the Federal Register approved the incorporation by reference of certain publications listed in the AD as of November 7, 2007.

On August 29, 2006 (71 FR 42026, July 25, 2006), the Director of the Federal Register approved the incorporation by reference of certain other publications listed in the AD.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a supplemental notice of proposed rulemaking (NPRM) to amend 14 CFR part 39 to include an AD that supersedes AD 2006-15-09, amendment 39-14689 (71 FR 42026, July 25, 2006). The existing AD applies to all Airbus Model A300, and Model A310 airplanes; and Model A300 B4-600, B4-600R, and F4-600R series airplanes, and Model C4-605R Variant F airplanes (collectively called A300-600 series airplanes). The supplemental NPRM was published in the Federal Register on June 20, 2007 (72 FR 33929). The supplemental NPRM proposed to require an inspection of the wing and center fuel tanks to determine if certain P-clips are installed and corrective action if necessary; an inspection of electrical bonding points of certain equipment in the center fuel tank for the presence of a blue coat and related investigative and corrective actions if necessary; and installation of new bonding leads and electrical bonding points on certain equipment in the wing, center, and trim fuel tanks, as necessary. That supplemental NPRM also proposed to require, for certain airplanes, installation of bonding on an additional bracket; and for certain other airplanes, modification of the fuel/defuel valves on the left-hand wing.

Comments

We provided the public the opportunity to participate in the development of this AD. We have considered the comments received.

Request To Revise Compliance Times and To Put New Actions in a Separate Rule

Air Transport Association (ATA), on behalf of its member American Airlines (AA), is concerned with the administrative burden of the supplemental NPRM. The commenters point out that the supplemental NPRM contains multiple compliance periods for the required actions. The commenters believe that the multiple compliance periods should be consolidated into one compliance period. AA states that the scope of the existing AD along with the work added by the supplemental NPRM makes the proposed AD unwieldy to implement. AA states that considerable planning and procurement schedules must be accommodated for each additional AD, which disrupts planning that is already in place. The commenters state that the scope change described in the supplemental NPRM would have been more appropriately mandated as a separate rule.

We do not agree that the compliance times should be consolidated into one compliance period. In developing the compliance time for this AD action, we considered not only the safety implications of the identified unsafe condition, but the average utilization rate of the affected fleet, the practical aspects of an orderly inspection or modification to the fleet during regular maintenance periods, the availability of required parts, and the time necessary for the rulemaking process. We also considered the compliance periods specified by the European Aviation Safety Agency (EASA) and the airplane manufacturer. We have determined that the proposed compliance times following the effective date of the AD are appropriate. We have not revised the AD in this regard.

However, we do agree that the scope change in the supplemental NPRM is better mandated as a separate rule for reasons the commenters stated. Since we issued the supplemental NPRM, the EASA has revised its airworthiness directive to 2006-0325 R1, dated July 25, 2007. (We cited the original issue of EASA airworthiness directive 2006-0325, dated October 23, 2006, as the parallel airworthiness directive in the supplemental NPRM.) Revision 1 of the EASA airworthiness directive removes the procedures in Airbus Service Bulletin A300-28-6064 from its stated actions. Airbus Service Bulletin A300-28-6064 includes procedures for Model A300-600 series airplanes. That service bulletin contains the scope change to which the commenters referred. R1 of the EASA airworthiness directive also removes Model A300-600 series airplanes from its applicability. As a result, we have revised the AD to do the following:

• Remove paragraph (k) of the supplemental NPRM. That paragraph contains the scope change cited by the commenters. We have re-identified subsequent paragraphs accordingly.

• Remove Model A300-600 series airplanes from the applicability. EASA is considering additional rulemaking regarding the unsafe condition for Model A300-600 series airplanes. Once the EASA airworthiness directive is approved, we will consider additional rulemaking for Model A300-600 series airplanes.

• Remove Model A300-600 service bulletins from Table 1 of the supplemental NPRM.

• Remove the costs information for Model A300-600 series airplanes from the Costs of Compliance section.

• Revise the Related Information (paragraph (n) of the supplemental NPRM) to refer to Revision 1 of the EASA airworthiness directive.

Conclusion

We have carefully reviewed the available data, including the comments received, and determined that air safety and the public interest require adopting the AD with the changes described previously. We have determined that these changes will neither increase the economic burden on any operator nor increase the scope of the AD.

Costs of Compliance

There are about 92 Model A300 and A310 airplanes of the affected design in the U.S. fleet. The following table provides the estimated costs, at an average labor rate of $80 per hour, for U.S. operators to comply with this AD. For some actions, the estimated work hours and cost of parts in the following table depend on the airplane configuration.

Estimated Costs
Model | Action | Work hours | Cost of parts | Cost per airplane | Number of U.S.-registered airplanes | Fleet cost
A300 airplanes | Inspect wing and center fuel tanks for P-clips (required by AD 2006-15-09) | 40 | None | $3,200 | 29 | $92,800.
| Install bonding leads/points in wing and center fuel tank (required by AD 2006-15-09) | Between 136 and 155 | Between $3,800 and $5,200 | Between $14,680 and $17,600 | 29 | Between $425,720 and $510,400.
A310 airplanes | Inspect wing and center fuel tanks for P-clips (required by AD 2006-15-09) | 40 | None | $3,200 | 63 | $201,600.
| Install bonding leads/points in wing and center fuel tank (required by AD 2006-15-09) | Between 248 and 285 | Between $8,840 and $9,190 | Between $28,680 and $31,990 | 63 | Between $1,806,840 and $2,015,370.
| Inspect and install bonding leads/points in the trim fuel tank (required by AD 2006-15-09) | Between 53 and 61 | Between $50 and $70 | Between $4,290 and $4,950 | 63 | Between $270,270 and $311,850.
| Install bonding for slat track 11 canister bracket (new action) | 2 | $30 | $190 | 63 | $11,970.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14689 (71 FR 42026, July 25, 2006) and by adding the following new airworthiness directive (AD):

2007-20-04 Airbus: Amendment 39-15214. Docket No. FAA-2007-27010; Directorate Identifier 2006-NM-259-AD.

Effective Date

(a) This AD becomes effective November 7, 2007.

Affected ADs

(b) This AD supersedes AD 2006-15-09.

Applicability

(c) This AD applies to all Model A300 and A310 airplanes, certificated in any category.

Unsafe Condition

(d) This AD results from fuel system reviews conducted by the manufacturer. We are issuing this AD to ensure continuous electrical bonding protection of equipment in the wing, center, and trim fuel tanks and to prevent damage to wiring in the wing and center fuel tanks, due to failed P-clips used for retaining the wiring and pipes, which could result in a possible fuel ignition source in the fuel tanks.

Compliance

(e) You are responsible for having the actions required by this AD performed within the compliance times specified, unless the actions have already been done.

Restatement of the Requirements of AD 2006-15-09

Service Bulletin References

(f) The term “service bulletin,” as used in this AD, means the Accomplishment Instructions of the service bulletins identified in Table 1 of this AD, as applicable.

Table 1.—Service Bulletin References
For Airbus— | And the actions specified in— | Use Airbus Service Bulletin— | Dated—
Model A300 airplanes | paragraph (g) of this AD | A300-28-0081 | July 20, 2005.
| paragraph (h) of this AD | A300-28-0079 | September 29, 2005; or Revision 01, dated June 6, 2006. After the effective date of this AD, only Revision 01 may be used.
Model A310 airplanes | paragraph (g) of this AD | A310-28-2143 | July 20, 2005.
| paragraph (h) of this AD | A310-28-2142 | August 26, 2005; or Revision 01, dated July 17, 2006. After the effective date of this AD, only Revision 01 may be used.
| paragraph (i) of this AD | A310-28-2153 | July 20, 2005.

Inspection and Corrective Actions

(g) Within 59 months after August 29, 2006 (the effective date of AD 2006-15-09): Do a general visual inspection of the right and left wing fuel tanks and center fuel tank, if applicable, to determine if any NSA5516-XXND- and NSA5516-XXNJ-type P-clips are installed for retaining wiring and pipes in any tank, and do all applicable corrective actions before further flight after the inspection, by accomplishing all the actions specified in the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Installation of Bonding Leads and Points for Wing and Center Fuel Tanks

(h) Within 59 months after August 29, 2006: Do the actions specified in paragraphs (h)(1) and (h)(2) of this AD, by accomplishing all the actions specified in the service bulletin.

(1) In the center fuel tank, if applicable, do a general visual inspection of the electrical bonding points of the equipment identified in the service bulletin for the presence of a blue coat, and do all related investigative and corrective actions before further flight after the inspection.

(2) In the left and right wing fuel tanks and center fuel tank, if applicable, install bonding leads and electrical bonding points on the equipment identified in the service bulletin.

Installation of Bonding Leads and Points for the Trim Fuel Tank

(i) For Model A310 airplanes equipped with a trim fuel tank: Within 59 months after August 29, 2006, install a new bonding lead(s) on the water drain system of the trim fuel tank and install electrical bonding points on the equipment identified in the service bulletin in the trim fuel tank, by accomplishing all the actions specified in the service bulletin, as applicable.

New Requirements of This AD

Installation of Bonding for Slat Track Canister 11 Bracket

(j) For all Model A310 airplanes on which the actions specified in Airbus Service Bulletin A310-28-2142, dated August 26, 2005, have been done before the effective date of this AD: Within 50 months after the effective date of this AD, install bonding for the slat track canister 11 bracket, in accordance with the Accomplishment Instructions of Airbus Service Bulletin A310-28-2142, Revision 01, dated July 17, 2006.

Parts Installation

(k) As of August 29, 2006, no person may install any NSA5516-XXND-or NSA5516-XXNJ-type P-clip for retaining wiring and pipes in any wing, center, or trim fuel tank, on any airplane.

Alternative Methods of Compliance (AMOCs)

(l)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-15-09 are approved as AMOCs for the corresponding provisions of this AD.

Related Information

(m) European Aviation Safety Agency airworthiness directive 2006-0325 R1, dated July 25, 2007, also addresses the subject of this AD.

Material Incorporated by Reference

(n) You must use the service information listed in Table 2 of this AD to perform the actions that are required by this AD, unless the AD specifies otherwise.

Table 2.—All Material Incorporated by Reference
Airbus Service Bulletin— | Revision level— | Date—
A300-28-0079 | Original | September 29, 2005.
A300-28-0079 | 01 | June 6, 2006.
A300-28-0081 | Original | July 20, 2005.
A310-28-2142 | Original | August 26, 2005.
A310-28-2142 | 01 | July 17, 2006.
A310-28-2143 | Original | July 20, 2005.
A310-28-2153 | Original | July 20, 2005.

(1) The Director of the Federal Register approved the incorporation by reference of the service bulletins listed in Table 3 of this AD in accordance with 5 U.S.C. 552(a) and 1 CFR part 51.

Table 3.—New Material Incorporated by Reference
Airbus Service Bulletin— | Revision level— | Date—
A300-28-0079 | 01 | June 6, 2006.
A310-28-2142 | 01 | July 17, 2006.

(2) On August 29, 2006 (71 FR 42026, July 25, 2006), the Director of the Federal Register approved the incorporation by reference of the service bulletins listed in Table 4 of this AD.

Table 4.—Material Previously Incorporated by Reference
Airbus Service Bulletin— | Dated—
A300-28-0079 | September 29, 2005.
A300-28-0081 | July 20, 2005.
A310-28-2142 | August 26, 2005.
A310-28-2143 | July 20, 2005.
A310-28-2153 | July 20, 2005.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on September 21, 2007.
Ali Bahrami,
Manager, Transport Airplane Directorate, Aircraft Certification Service.

[FR Doc. E7-19206 Filed 10-2-07; 8:45 am]

BILLING CODE 4910-13-P